DEPARTMENT OF COMMERCE

National Oceanic and Atmospheric Administration

[RTID 0648-XD011]

Western Pacific Fishery Management Council; Public Meetings

AGENCY: National Marine Fisheries Service (NMFS), National Oceanic and Atmospheric Administration (NOAA), Commerce.

ACTION: Notice of a public meeting.

SUMMARY: The Western Pacific Fishery Management Council (Council) will hold its Social Science Planning Committee (SSPC) meeting to discuss and make recommendations on fishery management issues in the Western Pacific Region.

DATES: The meeting will be held on May 31, 2023, from 1 p.m. to 5 p.m., Hawaii Standard Time (HST). See SUPPLEMENTARY INFORMATION for the agenda.

ADDRESSES: The meeting will be held by web conference via Webex. Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: A public comment period will be provided in the agendas. The order in which agenda items are addressed may change. The meeting will run as late as necessary to complete scheduled business.

Agenda

Wednesday, May 31, 2023, 1 p.m. to 5 p.m.

1. Welcome and Introductions

2. Approval of Agenda

3. Annual Stock Assessment and Fishery Evaluation (SAFE) Reports

A. Socioeconomic Modules 2022 Report Updates

B. Fisher Observations

4. Socioeconomic Considerations for Council Actions and Issues

A. Territory Bottomfish Management Unit Species Revision

B. Multi-year Territorial Bigeye Tuna Catch and Allocation Specifications

C. Review of the American Samoa Large Vessel Prohibited Area Impacts

D. Proposed Designation of a National Marine Sanctuary for the Pacific Remote Islands

5. National Standard 4 (Allocation) and 8 (Fishing Communities) Guidance Review

6. Review of Research Priorities

7. Project Updates

8. Public Comment

9. Discussion and Recommendations

10. Other Business

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 11, 2023.
Rey Israel Marquez,
Acting Deputy Director, Office of Sustainable Fisheries, National Marine Fisheries Service.

[FR Doc. 2023-10422 Filed 5-15-23; 8:45 am]

BILLING CODE 3510-22-P